FEDERAL MARITIME COMMISSION

Notice of Agreements Filed

The Commission hereby gives notice of filing of the following agreements under the Shipping Act of 1984. Interested parties may submit comments, relevant information, or documents regarding the agreements to the Secretary by email at Secretary@fmc.gov, or by mail, Federal Maritime Commission, 800 North Capitol Street, Washington, DC 20573. Comments will be most helpful to the Commission if received within 12 days of the date this notice appears in the Federal Register, and the Commission requests that comments be submitted within 7 days on agreements that request expedited review. Copies of agreements are available through the Commission's website (www.fmc.gov) or by contacting the Office of Agreements at (202) 523-5793 or tradeanalysis@fmc.gov.

Agreement No.: 201307-001.

Agreement Name: Crowley/Sealand Space Charter Agreement.

Parties: Crowley Latin America Services, LLC; Maersk A/S DBA Sealand.

Filing Party: Wayne Rohde; Cozen O'Connor.

Synopsis: The amendment deletes Haiti from the geographic scope of the agreement and adjusts the amount of space being chartered.

Proposed Effective Date: 11/16/2023.

Location: https://www2.fmc.gov/FMC.Agreements.Web/Public/AgreementHistory/22408.

Dated: November 17, 2023.
Carl Savoy,
Federal Register Alternate Liaison Officer.

[FR Doc. 2023-25815 Filed 11-21-23; 8:45 am]

BILLING CODE 6730-02-P